DEPARTMENT OF EDUCATION

Privacy Act of 1974; Computer Matching Program

AGENCY: Department of Education.

ACTION: Notice of computer matching between the U.S. Department of Education and the Administration for Children and Families (ACF) Department of Health and Human Services (HHS) Office of Child Support Enforcement (OCSE).

SUMMARY: Pursuant to the Computer Matching and Privacy Protection Act of 1988 and the Office of Management and Budget (OMB) Guidelines on the Conduct of Matching Programs, this document gives notice of a computer matching program between the U.S. Department of Education (ED), and the Administration for Children and Families/Department of Health and Human Services/Office of Child Support Enforcement (OCSE).

Background

The Data Integrity Boards of OCSE and ED will approve a new computer matching agreement between the two agencies, effective as indicated in paragraph six of this notice. In accordance with the Privacy Act of 1974 (5 U.S.C. 552a), as amended by the Computer Matching and Privacy Protection Act of 1988 (Pub. L. 100-503), the Office of Management and Budget (OMB) Final Guidelines on the Conduct of Matching Programs (see 54 FR 25818, June 19, 1989), and OMB Circular A-130, we provide the following information:

1. Participating Agencies.

U.S. Department of Education (ED), recipient agency.

Administration for Children and Families/Department of Health and Human Services/Office of Child Support Enforcement (OCSE), source agency.

2. Purpose of Match.

The purpose of the match is to obtain address information on individuals who owe funds to the Federal Government under defaulted student loans or grant overpayments. ED will use this information to initiate independent collection of these debts under the provisions of the Debt Collection Act of 1982 when voluntary payment is not forthcoming. For individuals whose annual salary exceeds $16,000, these collection efforts will include requests by ED of the employing entity to apply administrative and/or salary offset procedures until such time as the obligation is paid in full.

3. Authority for Conducting the Match.

The legal authority for conducting this match is contained in the Social Security Act (42 U.S.C. 653(j)) as amended (Pub.L. 106-113).

4. Records and Individuals Covered by the Match.

The systems of records maintained by the respective agencies under the Privacy Act of 1974, as amended, 5 U.S.C. 552a, from which records will be disclosed for the purpose of this computer match are as follows:

ED: 18-11-07 Student Financial Assistance Collection Files.

OCSE: 09-90-0074 the National Directory of New Hires (NDNH).

5. Description of computer matching program.

ED administers student financial assistance programs under the Higher Education Act of 1965 (HEA). OCSE maintains a database that consists of three separate components. The first component, the W4 table, contains all newly hired employees as reported from the State Directory of New Hires (SDNH) and directly from federal agencies. Component two, the QW table, contains quarterly wage information on individual employees, as received from federal agencies and states. The final component, the UI table, contains, unemployment insurance information of individuals who have received, or made application for, unemployment benefits, as reported by State Employment Security Agency or other State agencies responsible for the implementation of the Unemployment Insurance Program.

This matching agreement between ED and OCSE will assist ED in locating and collecting funds from delinquent debtors. The identifying elements that the two agencies will match are as follows:

ED: Names and SSNs of delinquent debtors.

OCSE: Names and SSNs of all newly hired employees and individuals who have received, or made application for, unemployment benefits.

OCSE will perform the computer match using all nine digits of the social security number (SSN) of the ED file against the OCSE computer database. OCSE will produce a file containing the name, SSN, current home address, employer and employer's address for each individual identified, based on the match. The file of matches will be returned to ED.

ED is responsible for verifying and determining that the data on the NDNH reply file is consistent with ED's source file and for resolving any discrepancies or inconsistencies on an individual basis. ED will also be responsible for making final determinations as to positive identification, amount of indebtedness and recovery efforts, as a result of the match.

6. Inclusive Dates of the Matching Program.

The matching program will become effective 40 days after a copy of the agreement, as approved by the Data Integrity Board of each agency, is sent to Congress and OMB (or later if OMB objects to some or all of the agreement), or October 10, 2000, whichever date is later. The matching program will continue for 18 months after the effective date and may be extended for an additional 12 months thereafter, if the conditions specified in 5 U.S.C. 552a(o)(2)(D) have been met.

7. Address for Receipt of Comments or Inquiries.

If you wish to comment on this matching program or obtain additional information about the program including a copy of the computer matching agreement between ED and OCSE, contact Marian Currie, U.S. Department of Education, 400 Maryland Avenue, SW., room 5614, ROB-3, Washington, DC 20202-5400, telephone: (202) 708-4766; or, as a secondary contact: Adara L. Walton, 400 Maryland Avenue, SW., room 5614, ROB-3, Washington, DC 20202-5420, telephone: (202) 260-1852. If you use a telecommunications device for the deaf (TDD), you may call the Federal Information Relay Service (FIRS) at 1-800-877-8339.

During and after the comment period, you may inspect all public comments about this matching program in room 5614, Regional Office Building 3, Seventh and D Streets, SW., Washington, DC, between the hours of 8:30 a.m. and 4:00 p.m., Eastern time, Monday through Friday of each week except Federal holidays.

Assistance to Individuals With Disabilities in Reviewing the Comments

On request, we will supply an appropriate aid, such as a reader or print magnifier, to an individual with a disability who needs assistance to review the comments or other documents in the public record for this notice. If you want to schedule an appointment for this type of aid, you may call (202) 205-8113 or (202) 260-9895. If you use a TDD, you may call the Federal Information Relay Service at 1-800-877-8339.

Individuals with disabilities may obtain this document in an alternate format (e.g., Braille, large print, audiotape, or computer diskette) on request to the contact person listed in the preceding paragraph.

Electronic Access to This Document

You may view this document, as well as all other Department of Education documents published in the Federal Register, in text or portable document format (PDF) on the Internet at the following sites:

http://ocfo.ed.gov/fedreg.htm

http://www.ed.gov/news.html

To use PDF you must have the Adobe Acrobat Reader, which is available free at either of the previous sites. If you have questions about using PDF, call the U.S. Government Printing Office (GPO), toll free, at 1-888-293-6498; or in the Washington, DC area at (202) 512-1530.

You may also view this document in text or PDF at the following site: http://ifap.ed.gov/csb_html/fedlreg.htm.

Note: The official version of this document is the document published in the Federal Register. Free Internet access to the official edition of the Federal Register and the Code of Federal Regulations is available on GPO Access at: http://www.access.gpo.gov/nara/index.html.

Dated: August 31, 2000.
Greg Woods,
Chief Operating Officer, Student Financial Assistance.

[FR Doc. 00-22952 Filed 9-6-00; 8:45 am]

BILLING CODE 4000-01-U